DEPARTMENT OF THE INTERIOR

Fish and Wildlife Service

[FWS-R4-R-2012-N047; FXRS12650400000S3-123-FF04R02000]

St. Vincent National Wildlife Refuge, FL; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for St. Vincent National Wildlife Refuge (NWR) in Franklin and Gulf Counties, Florida, for public review and comment. In this Draft CCP/EA, we describe the alternative we propose to use to manage this refuge for the 15 years following approval of the final CCP.

DATES: To ensure consideration, we must receive your written comments by June 1, 2012.

ADDRESSES: You may obtain a copy of the Draft CCP/EA by contacting Ms. Laura Housh, via U.S. mail at Okefenokee National Wildlife Refuge, 2700 Suwannee Canal Road, Folkston, GA 31537. Alternatively, you may download the document from our Internet Site at http://southeast.fws.gov/planning under “Draft Documents.” Comments on the Draft CCP/EA may be submitted to the above postal address or by email to stvincentccp@fws.gov.

FOR FURTHER INFORMATION CONTACT: Ms. Laura Housh at 912/496-7366, extension 244 (telephone); 912/496-3322 (fax); or via email at stvincentccp@fws.gov.

SUPPLEMENTARY INFORMATION:

Introduction

With this notice, we continue the CCP process for St. Vincent NWR. We started the process through a notice in the Federal Register on April 8, 2009 (74 FR 16002). For more about the refuge and our CCP process, please see that notice. St. Vincent NWR was established in 1968, to protect and conserve migratory birds in accordance with the Migratory Bird Conservation Act of 1929 (16 U.S.C. 715D).

St. Vincent NWR is situated along the gulf coast of northwest Florida, about 60 miles from Panama City and 80 miles from Tallahassee. The approved acquisition boundary for the refuge is approximately 13,736 acres. The current management boundary is approximately 12,490 acres. We oversee 21 Farm Service Agency easements (1,625 acres) in 6 counties. The 12,490-acre refuge boundary includes two islands—St. Vincent Island (12,358 acres) and Pig Island (46 acres). It also includes a mainland tract (86 acres).

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in the Draft CCP/EA include: (1) The control of invasive exotic species combined with education; (2) the need for more education, outreach, and awareness of the refuge; (3) the need to evaluate the appropriate size and staff needed to accomplish established purposes (i.e., consider biologist and wildlife officer positions); (4) the need to broaden and strengthen relationships and partnerships internally and externally; (5) the need to better understand the potential impacts of climate change on refuge resources; (6) the need to evaluate accessibility issues; and (7) the need to acquire additional funding to support refuge needs.

CCP Alternatives, Including Our Proposed Alternative

We developed three alternatives for managing the refuge (Alternatives A, B, and C), with Alternative C as our proposed alternative. A full description of each alternative is in the Draft CCP/EA. We summarize each alternative below.

Alternative A: Current Management (No Action)

Under this alternative, there would be no action taken to improve or enhance the refuge's current habitats, or improve wildlife and public use management programs. Species of Federal responsibility, such as threatened and endangered species and migratory birds, would continue to be monitored at present levels. Additional species monitoring would occur as opportunistic events when contacts outside our staff offer support. Current habitat management, including prescribed fire and hydrological restoration, would continue as outside resources become available to assist our staff. Management of exotic, invasive, and nuisance animal and plant species would continue to be opportunistic. The public use programs of hunting, fishing, wildlife observation, wildlife photography, and environmental education and interpretation would continue at present levels. Acquisition of lands into the refuge would occur when funding is appropriated and as willing sellers are interested in selling land that is necessary for refuge operations and/or critical habitats for sensitive species. The staff would consist of a manager, office assistant, forestry technician, and biological science technician, along with supplementary support from the remainder of the North Florida National Wildlife Refuge Complex staff, when available, as well as support from volunteers and partners.

Alternative B: Focus on Natural and Primitive Processes

The focus of Alternative B would be to emphasize the natural and primitive processes, while adhering to policy, mandates, and the missions of the Service and refuge. We would continue to support actions necessary to protect and manage for species of Federal responsibility, such as threatened and endangered species and migratory birds. Additional key species would be monitored as the refuge transitions into a more natural and primitive environment.

We would aggressively attempt to restore the hydrology to natural conditions with the removal of additional roads on St. Vincent Island. All water control structures, including the impoundment system on St. Vincent Island, would be opened to allow natural flow of water to and from the bay and the gulf. Under this alternative, prescribed burning would be discontinued, to allow natural fire events to occur unless human life or property is involved. Since the purchase of the refuge, there has been minimal emphasis on timber conditions, so a forest habitat assessment would be conducted on refuge lands. The eradication of exotic species (e.g., feral hogs and sambar deer) would be a key component of this alternative.

Wildlife-dependent recreational uses would continue, with some major changes. The hunt program would consist of a quality white-tailed deer and raccoon hunt (sambar deer and feral hog hunts would be phased out as eradication of these species occurs). As this alternative focuses on natural and primitive processes, camping during hunts would be discontinued and self check-in stations would be installed. Fishing opportunities would be based on natural processes, since stocking of freshwater fish would be discontinued. Wildlife observation, photography, and environmental education and interpretation would continue to focus on a natural and primitive process, with a discontinuation of vehicle tours.

We would continue to maintain and build relations with partners, volunteers, and the friends group as they relate to managing the resource, supporting the strategic habitat conservation (SHC) initiative, and the landscape conservation cooperative (LCC). There would continue to be a need for research and studies on the refuge to gain a better understanding of the resource and the changes resulting from environmental and human events.

We would staff the refuge at current levels, plus add an assistant manager, a wildlife biologist, a maintenance worker, and a wildlife officer.

Alternative C: Focus on Native and Imperiled Species (Proposed Alternative)

This alternative expands on Alternative A, with an increased effort to manage and protect the refuge's native and imperiled species. Under this alternative, we would continue to survey and monitor species of Federal responsibility, such as threatened and endangered species and migratory birds, and key native species. We would also gain a better understanding of native species. Additional efforts would be made to protect and support nesting opportunities for key species, as well as gain a better understanding of population dynamics of some species. There would be evaluations to determine if it is suitable to reestablish populations of the eastern indigo snake, gopher tortoise, and eastern wild turkey.

We would continue to manage lakes 1, 2, and 3 by seasonal draw-downs to support the needs of shorebirds and wading birds. Lakes 4 and 5 would continue to support deep water for a freshwater fisheries program, with occasional draw-down to manage the vegetation within the system. Since the purchase of the refuge, there has been minimal emphasis on timber conditions, so a forest habitat assessment would be conducted. The management of exotic, invasive, and nuisance animals and plants would be a focus, with emphasis on aggressively eradicating feral hogs.

Wildlife-dependent recreational uses would be expanded. The hunt program would consist of white-tailed deer, raccoon, and sambar deer. Fishing would consist of saltwater and freshwater opportunities. Wildlife observation, wildlife photography, and environmental education and interpretation would be enhanced to focus on imperiled species and the unique barrier island history and ecosystem as they relate to the coastal environment. We would enhance the environmental education program to incorporate Florida Sunshine Standards, while establishing guidelines for public programs. Vehicle tours that meet management objectives would continue as long as we have sufficient staff to support the program. The refuge would be staffed at current levels, in addition to an assistant manager, a wildlife biologist, a maintenance worker, a wildlife officer, a visitor services specialist, and a boat operator. Under this alternative, we would hire a wildlife biologist student through the Student Career Experience Program, continue the Youth Conservation Corps Program, and explore opportunities to work with students through the Student Conservation Association and AmeriCorps programs. Even with the increased staff, we would continue to expand our volunteer program and build stronger relations with the friends group and partners to manage our resources, supporting the SHC initiative and the LCC. As climate change affects the refuge, increased research and studies would need to be conducted on species and habitats, to support the best management decisions through adaptive management.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: March 29, 2012.
Mark J. Musaus,
Acting Regional Director.

[FR Doc. 2012-10571 Filed 5-1-12; 8:45 am]

BILLING CODE 4310-55-P